DEPARTMENT OF STATE

[Public Notice 11039]

60-Day Notice of Proposed Information Collection: Air Pollution and Health Monitoring Program for Eligible Family Members of the U.S. Diplomatic Community

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 15, 2020.

ADDRESSES: You may submit comments by any of the following methods:

• Web: Persons with access to the internet may comment on this notice by going to www.Regulations.gov. You can search for the document by entering “Docket Number: DOS-2020-0006” in the Search field. Then click the “Comment Now” button and complete the comment form.

• Email: MedAir@state.gov.

• Regular Mail: Send written comments to: MED/CP/HS/OH, 2401 E Street NW, Washington, DC 20522.

You must include the DS form number (if applicable), information collection title, and the OMB control number in any correspondence.

FOR FURTHER INFORMATION CONTACT: Direct requests for additional information regarding the collection listed in this notice, including requests for copies of the proposed collection instrument and supporting documents, to Molini Patel, who may be reached at (202) 663 2517 or at PatelMM@state.gov.

SUPPLEMENTARY INFORMATION:

• Title of Information Collection: Air Pollution and Health Monitoring Program for Eligible Family Members of the U.S. Diplomatic Community.

• OMB Control Number: None.

• Type of Request: New Collection.

• Originating Office: Bureau of Medical Services, Office of Occupational Health & Wellness (MED/CP/HS/OH), U.S. Department of State.

• Form Number: No form.

• Respondents: Respondents include Eligible Family Members of a Foreign Service Officer assigned to select U.S. Embassies or to U.S. Department of State offices in the Washington, DC area. Eligible Family Members are children, parents (including step parents and legally adoptive parents), siblings, spouse and certified Same Sex Domestic Partners of a Foreign Service Officer eligible for certain benefits on an overseas assignment, including the health care program administered by the Department's Bureau of Medical Services.

• Estimated Number of Respondents: 1,233.

• Estimated Number of Responses: 1,233.

• Average Time per Response: 2 hours.

• Total Estimated Burden Time: 2,466 hours.

• Frequency: Annually for up to three years.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Air pollution exposure is a health risk to the U.S. diplomatic community worldwide. More than 80% of U.S. embassies and consulates are located in cities with air pollution levels above U.S. health-based standards, and air pollution exposure is linked to a range of adverse health effects. The U.S. Department of State's Bureau of Medical Services (MED) establishes and operates the Department's Medical Program to promote and maintain the physical and mental health of members of the Service, and (when incident to service abroad) other designated eligible Government employees, and members of the families of such members and employees. In addition to medical examinations for employees and members of their families, a health care program may include health education and disease prevention programs. MED also develops and implements medical policies for the Department and advises the Secretary on global healthcare issues. MED has begun the Air Pollution and Health Monitoring Program to understand how respiratory and cardiovascular health may change during an overseas tour in locations that differ in air pollution levels, in order to inform Department policies. Data are needed on Eligible Family members who serve overseas with employees, are participants in the medical program, and are affected by policies set by the Department. Participants from the public will be Eligible Family Members of U.S. employees working at the Department of State in Washington, DC or at the U.S. Embassy in New Delhi, India; Jakarta, Indonesia; or Mexico City, Mexico. Participants will be asked to complete a questionnaire about their health and activities and visit the U.S. Department of State Exam Clinic in Washington, DC or the Health Unit of the selected U.S. Embassies overseas to have their height, weight, lung function, blood pressure, and blood oxygen saturation measured yearly over the next three years. The results will be used to implement and improve policies and mitigation programs to protect the health and well-being of the U.S. Diplomatic community. Such policies and programs may include tour length, medical clearance, health surveillance, alerts for susceptible population, and standards for exposure reduction measures.

Methodology

Participants will complete an electronic questionnaire. Questions ask about the participant's respiratory and cardiovascular health and activities. Participants will visit the Exam Clinic in Washington, DC or Health Unit of the selected U.S. Embassies. MED staff will measure their height, weight, blood pressure, and oxygen saturation. MED staff will also test their lung function by having them blow into a machine that measures air flow and lung volume. MED staff will ask the participant questions that can affect lung function values. The questionnaire and clinic visit will be repeated once a year for the next two years. Participation is voluntary, and respondents can stop participating at any time.

Kimberly Ottwell,
Deputy Medical Director.

[FR Doc. 2020-05229 Filed 3-13-20; 8:45 am]

BILLING CODE 4710-36-P